DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A Transgenic Model of Human Basal Triple Negative Breast Cancer [C3(l)-tag mice]

Description of Invention: Basal triple-negative breast cancer (TNBC) is a common form of human breast cancer for which there are no specific, targeted therapies, unlike hormone-responsive or Her2+ breast cancers. TNBC has a much worse prognosis than hormone receptor + cancer and is disproportionately high in the African-American population. NIH scientists have created and characterized a transgenic model that is currently an excellent mouse model for TNBC that shares important molecular characteristics of human TNBC, making it highly useful for preclinical testing of drugs and novel therapies. This model may provide a valuable means of identifying new drugs and therapies that could be translated to human clinical trials. The mouse model also develops prostate intraepithelial neoplasia and prostate cancer, therefore has also been used for studies of prostate cancer. The studies using the mouse model may fill important public health service needs.

Inventor: Jeffrey E. Green (NCI).

Patent Status: HHS Reference No. E-191-2010/0—Research Tool. Patent protection is not being pursued for this technology.

Licensing Status: Available for licensing under a Biological Materials License Agreement.

Licensing Contact: Betty Tong, Ph.D.; 301-594-6565; tongb@mail.nih.gov.

Collaborative Research Opportunity: The Transgenic Oncogenesis and Genomics Section of the Laboratory of Cancer Biology and Genetics, Center for Cancer Research, is seeking statements of capability or interest from parties interested in collaborative research to further develop, evaluate, or commercialize this mouse model of TNBC to study cancer biology and for preclinical testing. Please contact John Hewes, Ph.D. at 301-435-3121 or hewesj@mail.nih.gov for more information.

Improved Pepper Spray for Repellency and Incapacitation

Description of Invention: Non-lethal means of temporarily incapacitating a person are greatly needed for law enforcement and for personal protection. A common approach is to use pepper spray. Although current pepper sprays are effective, they cause pain for excessively long periods, and could be life threatening for people who suffer from asthma and have hypersensitive airways. This technology describes a composition for use in an aerosol or spray, that when administered, causes a painful stimulation and incapacitates a person for only a brief period. This technology may improve safety over currently available pepper sprays.

Application: Incapacitating pepper spray with reduced toxicity.

Development Status: Early stage.

Inventors: Peter M. Blumberg and Larry V. Pearce (NCI).

Patent Status: U.S. Provisional Application No. 61/340,063 filed 12 Mar 2010 (HHS Reference No. E-048-2010/0-US-01).

Licensing Status: Available for licensing.

Licensing Contact: Charlene Sydnor, Ph.D.; 301-435-4689; sydnorc@mail.nih.gov.

Dated: July 12, 2010.
Richard U. Rodriguez,
Director, Division of Technology Development and Transfer, Office of Technology Transfer, National Institutes of Health.

[FR Doc. 2010-17430 Filed 7-15-10; 8:45 am]

BILLING CODE 4140-01-P